FEDERAL COMMUNICATIONS COMMISSION

47 CFR Part 73

[DA 07-4125; MB Docket No. 06-43; RM-11313; MB Docket No. 06-66; RM-11321]

Radio Broadcasting Services; Normangee and Oakwood, TX

AGENCY: Federal Communications Commission.

ACTION: Proposed rule; dismissal.

SUMMARY: The Audio Division dismisses the Petitions for Rule Making filed by Charles Crawford, requesting the allotments of Channel 300A at Oakwood, Texas, as its first local service and Channel 299A at Normangee, Texas, as its first local service in compliance with Section 1.420(j) of the Commission's Rules. It is the Commission's policy to refrain from making a new allotment to a community absent an expression of interest. The Report and Order also dismissed a counterproposal filed by Linda Crawford in MB Docket No. 06-43 in accordance with Section 1.420(j) of the Rules. Additionally, a counterproposal filed by Roy Henderson in MB Docket No. 06-66 was dismissed.

ADDRESSES: Secretary, Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 06-43 and 06-66, adopted October 3, 2007, and released October 5, 2007. In MB Docket No. 06-43, the Notice of Proposed Rule Making proposed the allotment of Channel 300A at Oakwood, Texas. See 70 FR 136328, published March 15, 2006. In MB Docket No. 06-66, the Notice of Proposed Rule Making proposed the allotment of Channel 299A at Normangee, Texas. See 70 FR 20059, published April 19, 2006. The full text of this Commission decision is available for inspection and copying during regular business hours at the FCC's Reference Information Center, Portals II, 445 12th Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A), because the proposed rules were dismissed.)

Federal Communications Commission.
John A. Karousos,
Assistant Chief, Audio Division, Media Bureau.

[FR Doc. E7-20741 Filed 10-19-07; 8:45 am]

BILLING CODE 6712-01-P